FEDERAL MARITIME COMMISSION

Sunshine Act Meeting

AGENCY HOLDING THE MEETING: Federal Maritime Commission.

TIME AND DATE: September 20, 2017; 10:00 a.m.

PLACE: 800 N. Capitol Street NW., First Floor Hearing Room, Washington, DC.

STATUS: The meeting agenda originally published September 18, 2017, 82 FR 43541, is revised to add item 2 in the Open Session. The change was made upon a unanimous vote of the Commission. Parts of this meeting will be open to the public and streamed live at http://fmc.capitolconnection.org/. The rest of the meeting will be closed to the public.

MATTERS TO BE CONSIDERED:

Portions Open to the Public

1. Briefing by Commissioner Dye on the Supply Chain Innovation Teams and Update from Global Liner Shipping Asia Conference.

2. Updates from Acting Chairman Khouri on United States—European Union and United States—United Kingdom Maritime Bilateral Discussions and London International Shipping Week.

3. Staff Briefing on Review Process for Carrier and Marine Terminal Operator Agreements.

Portions Closed to the Public

1. Staff Update on Petition of the Coalition for Fair Port Practices (P4-16).

CONTACT PERSON FOR MORE INFORMATION: Rachel E. Dickon, Assistant Secretary, (202) 523 5725.

Rachel E. Dickon,
Assistant Secretary.

[FR Doc. 2017-20344 Filed 9-19-17; 4:15 pm]

BILLING CODE 6731-AA-P